SMALL BUSINESS ADMINISTRATION

[Declaration of Disaster #3272]

State of Wisconsin (Amendment #1)

In accordance with notices from the Federal Emergency Management Agency, dated July 17 and 18, 2000, the above-numbered Declaration is hereby amended to include Racine, Richland, and Sauk Counties in the State of Wisconsin as a disaster area due to damages caused by severe storms, tornadoes, and flooding. This declaration is further amended to reopen the incident period for this disaster and establish it as beginning on May 26, 2000 and continuing.

In addition, applications for economic injury loans from small businesses located in the contiguous County of Adams, Wisconsin may be filed until the specified date at the previously designated location. Any counties contiguous to the above-named primary counties and not listed herein have been previously declared.

All other information remains the same, i.e., the deadline for filing applications for physical damage is September 9, 2000 and for economic injury the deadline is April 11, 2001.

(Catalog of Federal Domestic Assistance Program Nos. 59002 and 59008.)

Dated: July 19, 2000.
Herbert L. Mitchell,
Acting Associate Administrator for Disaster Assistance.

[FR Doc. 00-18977 Filed 7-26-00; 8:45 am]

BILLING CODE 8025-01-U